DEPARTMENT OF TRANSPORTATION

Surface Transportation Board

[Docket No. EP 290 (Sub-No. 4); Docket No. EP 290 (Sub-No. 5)]

Railroad Cost Recovery Procedures—Productivity Adjustment; Quarterly Rail Cost Adjustment Factor

AGENCY: Surface Transportation Board.

ACTION: Notice and request for comments.

SUMMARY: The Surface Transportation Board seeks comments on a request from the Association of American Railroads that the Board restate the previously published productivity adjustment for the 2003-2007 averaging period (2007 productivity adjustment) so that it tracks the 2007 productivity adjustment figure used in the Board's March 26, 2010 calculation of the modified 2008 productivity adjustment, and restate any quarterly RCAF (Adjusted) and RCAF-5 calculations that would be affected by a restatement of the 2007 productivity adjustment.

DATES: Comments are due by July 12, 2010; replies are due by August 10, 2010.

ADDRESSES: Comments and replies may be submitted either via the Board's e-filing format or in traditional paper format. Any person using e-filing should attach a document and otherwise comply with the instructions at the E-FILING link on the Board's Web site at http://www.stb.dot.gov. Any person submitting a filing in the traditional paper format should send an original and 10 copies referring to Docket No. EP 290 (Sub-No. 4) et al. to: Surface Transportation Board, 395 E Street, SW., Washington, DC 20423-0001.

Copies of written comments will be available for viewing and self-copying at the Board's Public Docket Room, Room 131, and will be posted to the Board's Web site.

FOR FURTHER INFORMATION CONTACT: Valerie Quinn, (202) 245-0382. Assistance for the hearing impaired is available through the Federal Information Relay Service (FIRS) at: (800) 877-8339.

SUPPLEMENTARY INFORMATION: Additional information is contained in the Board's June 14, 2010 decision, which is available on our website at http://www.stb.dot.gov. Copies of the decision may be purchased by contacting the office of Public Assistance, Governmental Affairs, and Compliance at (202) 245-0235. Assistance for the hearing impaired is available through FIRS at (800) 877-8339.

This action will not significantly affect either the quality of the human environment or energy conservation.

Decided: June 7, 2010.
By the Board, Chairman Elliott, Vice Chairman Mulvey, and Commissioner Nottingham.
Jeffrey Herzig,
Clearance Clerk.

[FR Doc. 2010-14112 Filed 6-10-10; 8:45 am]

BILLING CODE 4915-01-P